DEPARTMENT OF ENERGY

Federal Energy Regulatory Commission

[Project No. 14752-000]

Rivertec Partners, LLC; Notice of Preliminary Permit Application Accepted for Filing and Soliciting Comments, Motions To Intervene, and Competing Applications

On February 16, 2016, Rivertec Partners, LLC filed an application for a preliminary permit, pursuant to section 4(f) of the Federal Power Act (FPA), proposing to study the feasibility of the Sherman Hydroelectric Project (Sherman Project or project) to be located at the John Day Dam Juvenile Fish Sampling and Monitoring Facility (Juvenile Fish Facility) on the Columbia River near the City of Rufus in Sherman County, Oregon. The sole purpose of a preliminary permit, if issued, is to grant the permit holder priority to file a license application during the permit term. A preliminary permit does not authorize the permit holder to perform any land-disturbing activities or otherwise enter upon lands or waters owned by others without the owners' express permission.

The proposed project would utilize flows at the existing Juvenile Fish Facility, and would consist of the following new features: (1) A 7-foot-diameter, 55-foot-long steel penstock connecting with the Juvenile Fish Facility's existing screened excess water pipe; (2) a 71.2-foot-long, 26.2-foot-wide, 16.4-foot-high concrete and steel powerhouse; (3) a 4.2-megawatt turbine generator; (4) a 10.6-foot-diameter, 31.8-foot-long steel draft tube returning flows to the Columbia River; (5) either a 1,400-foot-long, 13.8-kilovolt (kV) transmission line interconnecting with the existing John Day Dam transformer, or an approximately 120-foot-long, 4.16-kV or 13.8-kV transmission line interconnecting with the existing Bonneville Power Administration substation; and (6) appurtenant facilities. The estimated annual generation of the Sherman Project would be 33 gigawatt-hours.

Applicant Contact: Mr. Mark Steinley, Rivertec Partners, LLC, 521 Thorn Street, No. 331, Sewickley, Pennsylvania 15143; phone: (480) 435-0846.

FERC Contact: Sean O'Neill; phone: (202) 502-6462.

Deadline for filing comments, motions to intervene, competing applications (without notices of intent), or notices of intent to file competing applications: 60 Days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14752-000.

More information about this project, including a copy of the application, can be viewed or printed on the “eLibrary” link of Commission's Web site at http://www.ferc.gov/docs-filing/elibrary.asp. Enter the docket number (P-14752) in the docket number field to access the document. For assistance, contact FERC Online Support.

Dated: May 19, 2016.
Kimberly D. Bose,
Secretary.

[FR Doc. 2016-12422 Filed 5-25-16; 8:45 am]

BILLING CODE 6717-01-P